FEDERAL COMMUNICATIONS COMMISSION

Sunshine Act Meeting; Open Commission Meeting, Friday, February 10, 2006

February 3, 2006.

The Federal Communications Commission will hold an Open Meeting on Friday, February 10, 2006, which is scheduled to commence at 11 a.m. CST. For the convenience of those appearing before the Commission, the Commission will hold its meeting in Keller, Texas at: The Keller Pointe Community Center, 405 Rufe Snowe Drive, Keller, TX 76248.

At this meeting, the Commission will consider one item. The Commission also will hear presentations on video competition from a panel of industry, governmental and public parties.

Item No. | Bureau | Subject
1 | Media Bureau | Title: Annual Assessment of the Status of Competition in the Market for the Delivery of Video Programming
|  | Summary: The Commission will consider a Twelfth Annual Report to Congress on the status of competition in the market for the delivery of video programming.

Open captioning will be provided for this event. Additional information concerning this meeting may be obtained from Audrey Spivack or David Fiske, Office of Media Relations, (202) 418-0500; TTY 1-888-835-5322. Audio coverage of the meeting will be broadcast live over the Internet from the FCC's Audio/Video Events Web page at http://www.fcc.gov/realaudio.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. 06-1208 Filed 2-6-06; 12:29 pm]

BILLING CODE 6712-01-P